DEPARTMENT OF AGRICULTURE

Forest Service

Glenn/Colusa County Resource Advisory Committee

AGENCY: Forest Service, USDA.

ACTION: Notice of meeting.

SUMMARY: The Glenn/Colusa County Resource Advisory Committee (RAC) will hold its third meeting.

DATES: The meeting will be held on April 11, 2002, and will begin at 3 p.m. until approximately 6 p.m.

ADDRESSES: The meeting will be held at the Monday Afternoon Club, 120 N. Lassen St., Willows, CA.

FOR FURTHER INFORMATION CONTACT: Bobbin Gaddini, Committee Coordinator, USDA, Mendocino National Forest, Grindstone Ranger District, P.O. Box 164, Elk Creek, CA 95939. (530) 968-5329; e-mail ggaddini@fs.fed.us.

SUPPLEMENTARY INFORMATION: Agenda items to be covered include: (1) Review of By-Laws & Operating Guidelines/Possible Action, (2) Report from Project Proposal Subcommittee/Possible Action, (3) Vacant Replacement Member Group A, (4) Elect a Vice-Chairperson/Action, (5) Forest Service details on Project Proposals/Possible Action, (6) Project Evaluation Criteria, (7) Additional Proposals (RAC members & public), (8) Process to Solicit Proposals, (9) Public Comment, (10) Next Agenda. The meeting is open to the public. Public input opportunity will be provided and individuals will have the opportunity to address the Committee at that time.

Dated: March 12, 2002.
James F. Giachino,
Designated Federal Officer.

[FR Doc. 02-6815 Filed 3-20-02; 8:45 am]

BILLING CODE 3410-11-M